DEPARTMENT OF AGRICULTURE

Office of the Secretary

Visioning of United States, (U.S.) Agricultural Systems for Sustainable Production Stakeholder Listening Session Meeting

AGENCY: Office of the Chief Scientist of the United States Department of Agriculture, OCS, USDA.

ACTION: Notice of a meeting.

SUMMARY: The OCS, USDA announces a Visioning of U.S. Agriculture Systems for Sustainable Production Listening Session for those interested in the long-term health and viability of U.S. Agriculture and for concurrently improving the economic, environmental, security, and health benefits to the U.S. through agriculture over the next 50 years.

DATES: Listening session: The listening session will be on Thursday, March 2, 2017 will begin at 8:30 a.m. and is scheduled to end by 5:00 p.m.

Registration: You must register by February 27, 2017, to attend in person and to provide oral comments during the listening session. The number of attendees and oral commenters is limited due to time and space constraints (see below) on a first come, first served basis. All interested, regardless of attending, are welcome to submit written comments.

Comments: Written comments are due by March 9, 2017. Written comments must be submitted electronically to the Contact Person identified in this notice.

ADDRESSES: The meeting will take place at the Jamie L. Whitten Building, 12th Street and Jefferson Drive SW., Washington, DC 20250. All participants are required to enter through the Jefferson Drive entrance to the building. This is the entrance facing the National mall.

FOR FURTHER INFORMATION CONTACT: Seth Murray, Senior Advisor, Office of the Chief Scientist; telephone: (202) 692-0204; fax: (202) 260-8786; or email: seth.murray@osec.usda.gov .

SUPPLEMENTARY INFORMATION: The OCS was established in 2011 [FR Doc. 2011-4128] within the Research, Education and Economics (REE) mission area of USDA, to identify the authorities of the Under Secretary for REE (Chief Scientist of the Department) and the Director of the OCS with respect to scientific integrity within USDA and the coordination of agricultural research, education, and extension programs and activities. The Chief Scientist provides leadership and coordination for four agencies of the mission area—the Agricultural Research Service; Economic Research Service; National Institute of Food and Agriculture; and the National Agricultural Statistics Service.

Agricultural Systems include row crops, horticultural crops, rangeland, livestock, aquaculture, forest, urban agriculture, and alternative agricultural production systems for food, fiber and fuel in addition to the water, landscape and ecosystem services they depend on and affect.

New technologies and scientific discoveries are creating possibilities for novel agricultural systems that could better meet holistic societal needs beyond existing systems. Researching, designing and implementing these systems requires coordination across extremely diverse stakeholders, recognition of regional differences, and a longer timeline than incremental improvements to existing systems. The listening session will elicit stakeholder input from industry and state representatives, federal representatives from within USDA and other agencies, national organizations and institutions, local producers, and other groups interested in issues facilitating opportunities in the long-term for sustainable agricultural production. Short term (less than seven years) and incremental solutions are outside the scope of this particular listening session.

On Thursday, March 2, 2017 the listening session will be held from 8:30 a.m.-5:00 p.m. in room 107A of the Jamie L. Whitten building. A consultant may be assisting with coordinating and facilitating the session. The morning session will include brief introductions to relevant USDA agencies, other Federal agencies and invited subject matter experts, relevant to long-term support and visioning of agricultural systems. After this, approximately 10 minute presentations will be given by stakeholders that discuss strengths, weaknesses, opportunities and/or threats of future agricultural production systems. Following lunch, stakeholder presentations will continue. In the afternoon, a summary and discussion session will take place in which participants will be asked to discuss their reactions to the information presented earlier in the day as well as respond to a set of questions presented by the organizers aimed at getting feedback for the strengths, weaknesses, opportunities and threats in current and future agricultural systems towards sustainable production. An updated schedule will be available online at least one month before the session from https://www.usda.gov/ocs, or by emailing seth.murray@osec.usda.gov.

All stakeholders are welcome to apply for a 10-minute presentation slot, however, due to time constraints, a limited number will be selected. Selections will be made to maintain a diversity of topics (e.g. animal, aquaculture, grain, fruit, landscape, plant, soil, etc.) and geographies but on a first come, first served basis. To apply for a slot, please email the Contact Person, Dr. Seth Murray, listed above with a one to two sentence topic description. All presentations may be oral and/or in PowerPoint, however, a written transcript of the talk should be submitted no later than one week after the event.

All parties interested in attending this event must RSVP no later than February 27, 2017 to the Contact Person, Dr. Seth Murray, listed previously. Due to size constraints in the meeting room, only the first 70 responders will be accepted.

Written comments by attendees or other interested stakeholders will be welcomed before and up to one week following the listening session (March 9, 2017). All statements will become a part of the official record of the OCS and will be kept on file in that office.

Done at Washington, DC, this 17th day of January 2017.
Ann Bartuska,
Acting Under Secretary, Research, Education, and Economics.

[FR Doc. 2017-01506 Filed 1-23-17; 8:45 am]

BILLING CODE 3410-03-P